FEDERAL ELECTION COMMISSION

11 CFR Part 104

[NOTICE 2012-07]

Rulemaking Petition: Electioneering Communications Reporting

AGENCY: Federal Election Commission.

ACTION: Rulemaking petition: Notice of availability.

SUMMARY: On October 5, 2012, the Commission received a Petition for Rulemaking from the Center for Individual Freedom. See REG 2012-01 Electioneering Communications Reporting (2012). The Petition urges the Commission to revise the regulations regarding the reporting of electioneering communications.

DATES: Statements in support of or in opposition to the Petition must be submitted on or before December 26, 2012.

ADDRESSES: All comments must be in writing. Comments may be submitted electronically via the Commission's Web site at http://www.fec.gov/fosers/ (REG 2012-01 Electioneering Communications Reporting (2012)). Commenters are encouraged to submit comments electronically to ensure timely receipt and consideration. Alternatively, comments may be submitted in paper form. Paper comments must be sent to the Federal Election Commission, Attn.: Robert M. Knop, Assistant General Counsel, 999 E Street NW., Washington, DC 20463. All comments must include the full name and postal service address of a commenter, and of each commenter if filed jointly, or they will not be considered. The Commission will post comments on its Web site at the conclusion of the comment period.

The Petition is available for inspection in the Commission's Public Records Office, on its Web site, http://www.fec.gov/fosers/ (REG 2012-01 Electioneering Communications Reporting (2012)), and through its Faxline service.

FOR FURTHER INFORMATION CONTACT: Mr. Robert M. Knop, Assistant General Counsel, or Mr. Theodore M. Lutz, Attorney, 999 E Street NW., Washington, DC 20463, (202) 694-1650 or (800) 424-9530.

SUPPLEMENTARY INFORMATION: The Federal Election Commission (“Commission”) has received a Petition for Rulemaking from the Center for Individual Freedom. The petitioner asks that the Commission revise 11 CFR 104.20(c)(8) and (9) “by deleting the phrase `pursuant to 11 CFR 114.15,' thereby explicitly applying the electioneering communication disclosure obligations of corporations and labor unions to any form of electioneering communication.” The Commission seeks comments on the petition.

Copies of the Petition for Rulemaking are available for public inspection at the Commission's Public Records Office, 999 E Street NW., Washington, DC 20463, Monday through Friday between the hours of 9 a.m. and 5 p.m., and on the Commission's Web site, http://www.fec.gov/fosers/ (REG 2012-01 Electioneering Communications Reporting (2012)). Interested persons may also obtain a copy of the Petition by dialing the Commission's Faxline service at (202) 501-3413 and following its instructions, at any time of the day and week. Request document #273.

Consideration of the merits of the Petition will be deferred until the close of the comment period. If the Commission decides that the Petition has merit, it may begin a rulemaking proceeding. Any subsequent action taken by the Commission will be announced in the Federal Register.

Dated: October 18, 2012.
Caroline C. Hunter,
Chair, Federal Election Commission.

[FR Doc. 2012-26116 Filed 10-25-12; 8:45 am]

BILLING CODE 6715-01-P